DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's List of Specially Designated Nationals and Blocked Persons (SDN List) based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On January 5, 2023, OFAC determined that the property and interests in property subject to U.S. jurisdiction of the following persons are blocked under the relevant sanctions authority listed below.

Individuals

1. AL-KHATUNI, Abd Al Hamid Salim Ibrahim Ismail Brukan, (a.k.a. ALISMAEEL, Abdulhameed Salim Ibrahim; a.k.a. AL-KHATUNI, `Abd-al-Hamid Salim Ibrahim Isma'il; a.k.a. “AL-KHATUNI, Brukan”), Mersin, Turkey; DOB 01 Sep 1970; alt. DOB 12 Jan 1970; POB Ba'aj, Iraq; nationality Iraq; Gender Male; Secondary sanctions risk: section 1(b) of Executive Order 13224, as amended by Executive Order 13886 (individual) [SDGT] (Linked To: ISLAMIC STATE OF IRAQ AND THE LEVANT).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, the ISLAMIC STATE OF IRAQ AND THE LEVANT, a person whose property and interests in property are blocked pursuant to E.O. 13224.

2. AL-JUBURI, Lu'ay Jasim Hammadi (a.k.a. AL-JUBURI, Lu'ay Jasim Hammadi Mahdi; a.k.a. HAMMADI, Lu'ay Jasim; a.k.a. “Hajji Lu'ay”), Mersin, Turkey; DOB 06 Oct 1970; POB Baghdad, Iraq; nationality Iraq; Gender Male; Secondary sanctions risk: section 1(b) of Executive Order 13224, as amended by Executive Order 13886 (individual) [SDGT] (Linked To: ISLAMIC STATE OF IRAQ AND THE LEVANT).

Designated pursuant to section 1(a)(iii)(C) of E.O. 13224, as amended, for having materially assisted, sponsored, or provided financial, material, or technological support for, or goods or services to or in support of, the ISLAMIC STATE OF IRAQ AND THE LEVANT, a person whose property and interests in property are blocked pursuant to E.O. 13224.

3. AL-KHATUNI, Umar Abdul Hamid Salim Brukan (a.k.a. ALESMAIL, Omar Abdulhameed), Mersin, Turkey; DOB 15 May 1995; POB Mosul, Iraq; nationality Iraq; Gender Male; Secondary sanctions risk: section 1(b) of Executive Order 13224, as amended by Executive Order 13886 (individual) [SDGT] (Linked To: ISLAMIC STATE OF IRAQ AND THE LEVANT).

Designated pursuant to section 1(a)(iii)(C) of E.O. 13224, as amended, for having materially assisted, sponsored, or provided financial, material, or technological support for, or goods or services to or in support of, the ISLAMIC STATE OF IRAQ AND THE LEVANT, a person whose property and interests in property are blocked pursuant to E.O. 13224.

4. AL-KHATUNI, Muhammad Abdul Hamid Salim Brukan (a.k.a. AL-ISMAEEL, Mohammed Abdulhameed Salim), Mersin, Turkey; DOB 06 Jan 2002; nationality Iraq; Gender Male; Secondary sanctions risk: section 1(b) of Executive Order 13224, as amended by Executive Order 13886 (individual) [SDGT] (Linked To: ISLAMIC STATE OF IRAQ AND THE LEVANT).

Designated pursuant to section 1(a)(iii)(C) of E.O. 13224, as amended, for having materially assisted, sponsored, or provided financial, material, or technological support for, or goods or services to or in support of, the ISLAMIC STATE OF IRAQ AND THE LEVANT, a person whose property and interests in property are blocked pursuant to E.O. 13224.

Entities

1. SHAM EXPRESS (a.k.a. SHAM EXPRESS KARGO OTOMOTIV GIDA INSAAT ELEKTRONIK TEKSTIL ITHALAT IHRACAT SANAYI VE TICARET LIMITED SIRKETI), Cankaya Mah. Ismet Inonu Bulvari Yasat Ishani Sitesi No:118/134, Akdeniz, Mersin, Turkey; website shamexpress.com.tr; Secondary sanctions risk: section 1(b) of Executive Order 13224, as amended by Executive Order 13886; Registration Number 49304 (Turkey) [SDGT] (Linked To: ISLAMIC STATE OF IRAQ AND THE LEVANT).

Designated pursuant to section 1(a)(iii)(C) of E.O. 13224, as amended, for having materially assisted, sponsored, or provided financial, material, or technological support for, or goods or services to or in support of, the ISLAMIC STATE OF IRAQ AND THE LEVANT, a person whose property and interests in property are blocked pursuant to E.O. 13224.

2. WADI ALRRAFIDAYN FOR FOODSTUFFS (f.k.a. AL-SARAF COMPANY FOR GENERAL TRADE; f.k.a. ALSARAF HAWALA OFFICE; f.k.a. AL-SARAF HAWALA OFFICE; a.k.a. WADI ALRRAFIDAYN GIDA YAS SEBZE MEYVE BAKLIYAT OTOMOTIV TEKSTIL ITH IHR SAN VE TIC LTD STI), No. 1-11 Bahce Mahallesi, Mersin 33010, Turkey; Secondary sanctions risk: section 1(b) of Executive Order 13224, as amended by Executive Order 13886; Organization Established Date 30 Sep 2019; Business Registration Number 53175 (Turkey) [SDGT] (Linked To: AL-KHATUNI, Abd Al Hamid Salim Ibrahim Ismail Brukan).

Designated pursuant to section 1(a)(iii)(A) of Executive Order 13224, as amended, for being owned, controlled, or directed by, Abd Al Hamid Salim Ibrahim Ismail Brukan Al-Khatuni, a person whose property and interests in property are blocked pursuant to E.O. 13224, as amended.

Dated: January 5, 2023.
Andrea Gacki,
Director, Office of Foreign Assets Control, U.S. Department of the Treasury.

[FR Doc. 2023-05795 Filed 3-21-23; 8:45 am]

BILLING CODE 4810-AL-P